DEPARTMENT OF HEALTH & HUMAN SERVICES

Health Resources and Services Administration

National Center for Medical Home Implementation Cooperative Agreement at the American Academy of Pediatrics

AGENCY: Health Resources and Services Administration (HRSA), Department of Health and Human Services (HHS).

ACTION: Notice of Single-Case Deviation from Competition Requirement for Program Expansion for the National Center for Medical Home Implementation Cooperative Agreement at the American Academy of Pediatrics, Grant Number U43MC09134.

SUMMARY: HRSA announces its intent to award a program expansion supplement in the amount of $171,691 for the National Center for Medical Home Implementation (NCMHI) cooperative agreement. The purpose of the NCMHI cooperative agreement, as stated in the funding opportunity announcement, is to: (1) Support a national resource and technical assistance effort to implement and spread the medical home model to all children and youth, particularly children with special health care needs (CSHCN), children who are vulnerable and/or medically underserved, and pediatric populations served by state public health programs, HRSA, and HRSA's Maternal and Child Health Bureau (MCHB); and (2) support activities of the Healthy Tomorrows Partnership for Children Program (HTPCP) grantees to improve children's health through innovative community-based efforts, and community and statewide partnerships among professionals in health, education, social services, government, and business. The purpose of this notice is to announce the award of supplemental funds to enhance the Rural IMPACT project by supporting activities related to child health in rural and underserved communities by the American Academy of Pediatrics, the cooperative agreement awardee who serves as the NCMHI, during the budget period of July 1, 2015, to June 30, 2016. The NCMHI is authorized by the Social Security Act, title V, sections 501(a)(1)(D) and 501(a)(2), (42 U.S.C. 701(a)(1)(D) and 701(a)(2)).

The NCHMI is a national resource to implement and spread the medical home model to all children and youth, particularly children with special heath care needs and children who are vulnerable and/or medically underserved. The NCMHI supports activities of the HTPCP grantees to improve children's health through innovative community-based efforts, and community and statewide partnerships among professionals in health, education, social services, government, and business.

SUPPLEMENTARY INFORMATION: Intended Recipient of the Award: The American Academy of Pediatrics.

Amount of the Non-Competitive Award: $171,691.

CFDA Number: 93.110.

Current Project Period: 07/01/2008-06/30/2018.

Period of Supplemental Funding: 7/1/2015-6/30/2016.

Authority: Social Security Act, Title V, sections 501(a)(1)(D) and 501(a)(2), (42 U.S.C. 701(a)(1)(D) and 701(a)(2)).

Justification: On August 14, 2015, as part of the White House Rural Council's Rural Child Poverty Initiative, HRSA awarded a program expansion supplement to the NCMHI cooperative agreement for the Rural IMPACT Project. HRSA and the Administration for Children and Families (ACF), each using its own authority, used fiscal year (FY) 2015 funds to support a cohort of ten rural and tribal communities to provide two-generation, bundled services to children and families in need. Utilizing the two-generation approach, the communities will promote problem solving at the community level by encouraging pediatric clinicians' participation and public-private partnership, such as the Early Childhood Comprehensive Systems Initiative, Project Launch, and private sector support for improved collaboration and coordination of and access to mental, oral, and physical health and non-clinical resources (e.g., home visiting, early care and education settings such as child care and Head Start, early intervention, child welfare, education) at the community level for children, youth, and their families.

The American Academy of Pediatrics (AAP), working with MCHB, will establish an expert workgroup and operational structure to guide the initiative; develop and issue a solicitation and scoring process and conduct a review of letters of interest to make recommendations for participating communities; develop a quality improvement package; identify systems-level measures to monitor process and progress of individual communities and the initiative as a whole; and provide structured technical assistance to the selected communities.

In consultation with MCHB, ACF, and the White House Rural Council, the AAP has developed guidance, and solicited for and reviewed letters of interest for the cohort of ten rural and tribal communities. Communities will be notified of the application outcome in late September 2015. For its expert workgroup, AAP has identified and invited experts in social service delivery, rural health, and quality improvement. A meeting of participating communities and the expert workgroup will be held in Washington, DC, in October 2015.

FOR FURTHER INFORMATION CONTACT: Marie Y. Mann, MD, MPH, FAAP, Division of Services for Children with Special Health Needs, Maternal and Child Health Bureau, Health Resources and Services Administration, 5600 Fishers Lane, Room 13-103, Rockville, Maryland 20857; MMann@hrsa.gov.

Grantee/organization name | Grant No. | State | FY 2015 authorized funding level | FY 2015 estimated supplemental funding
The American Academy of Pediatrics | U43MC09134 | IL | $800,031 | $171,691

Dated: September 24, 2015.
James Macrae,
Acting Administrator.

[FR Doc. 2015-24960 Filed 9-30-15; 8:45 am]

BILLING CODE 4165-15-P